NUCLEAR REGULATORY COMMISSION

[NRC-2014-0001]

Sunshine Act Meeting

DATES: Weeks of July 7, 14, 21, 28, August 4, 11, 2014.

PLACE: Commissioners' Conference Room, 11555 Rockville Pike, Rockville, Maryland.

STATUS: Public and Closed.

Week of July 7, 2014

There are no meetings scheduled for the week of July 7, 2014.

Week of July 14, 2014—Tentative

Tuesday, July 15, 2014

9:00 a.m. Briefing on Nuclear Power Plant Decommissioning (Public Meeting) (Contact: Louise Lund, 301-415-3248)

This meeting will be webcast live at the Web address— http://www.nrc.gov/.

Thursday, July 17, 2014

9:00 a.m. Briefing on Radiation Source Protection and Security (Part 1) (Public Meeting) (Contact: Kim Lukes, 301-415-6701)

This meeting will be webcast live at the Web address— http://www.nrc.gov/.

10:35 a.m. Briefing on Radiation Source Protection and Security (Part 2) (Closed—Ex. 9) (Contact: Kim Lukes, 301-415-6701)

Week of July 21, 2014—Tentative

There are no meetings scheduled for the week of July 21, 2014.

Week of July 28, 2014—Tentative

Tuesday, July 29, 2014

9:30 a.m. Briefing on Human Capital and Equal Employment Opportunity (EEO) (Public Meeting) (Contact: Kristin Davis, 301-287-0707)

This meeting will be webcast live at the Web address— http://www.nrc.gov/.

Thursday, July 31, 2014

9:00 a.m. Briefing on the Status of Lessons Learned from the Fukushima Dai-ichi Accident (Public Meeting) (Contact: Kevin Witt, 301-415-2145)

This meeting will be webcast live at the Web address— http://www.nrc.gov/.

Week of August 4, 2014—Tentative

There are no meetings scheduled for the week of August 4, 2014.

Week of August 11, 2014—Tentative

There are no meetings scheduled for the week of August 11, 2014.

* * * * *

The schedule for Commission meetings is subject to change on short notice. To verify the status of meetings, call Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: July 2, 2014.
Rochelle C. Bavol,
Policy Coordinator, Office of the Secretary.

[FR Doc. 2014-15920 Filed 7-2-14; 4:15 pm]

BILLING CODE 7590-01-P